DEPARTMENT OF THE INTERIOR

Bureau of Indian Affairs

Notice of Determination

AGENCY: Bureau of Indian Affairs, Interior.

ACTION: Notice of Final Agency Determination to take land into trust under 25 CFR Part 151.

SUMMARY: The Associate Deputy Secretary made a final agency determination to acquire approximately 147 acres of land into trust for the Match-E-Be-Nash-E-Wish Band (Gun Lake Tribe) of Pottawatomi Indians of Michigan on April 18, 2005. This notice is published in the exercise of authority delegated by the Secretary of the Interior to the Principal Deputy Assistant Secretary—Indian Affair by 209 Department Manual 8.1.

FOR FURTHER INFORMATION CONTACT: George T. Skibine, Director, Office of Indian Gaming Management, Office of Deputy Assistant Secretary—Policy and Economic Development, Washington, DC 20240, (202) 219-4066.

SUPPLEMENTARY INFORMATION: This notice is published to comply with the requirements of 25 CFR Part 151.12(b) that notice is given to the public of the Secretary's decision to acquire land in trust at least 30 days prior to signatory acceptance of the land into trust. The purpose of the 30-day waiting period in 25 CFR 151.12(b) is to afford interested parties the opportunity to seek judicial review of the final administrative decisions to take land in trust for Indian tribes and individual Indians before transfer of title to the property occurs. On April 18, 2005, the Associate Deputy Secretary decided to accept approximately 147 acres of land into trust for the Match-E-Be-Nash-E-Wish Band (Gun Lake Tribe) of Pottawatomi Indians of Michigan under the authority of the Indian Reorganization Act of 1934, 24 U.S.C. 465. We have determined that the Gun Lake Tribe's request would meet the requirements of IGRA exception 25 U.S.C. 2791(b)(1)(B)(ii), from the general prohibition on gaming on after acquired lands contained in 25 U.S.C. 2719(a). The land is located in Wayland Township, Allegan County, Michigan and will be used for the purpose of construction and operation of a gaming facility.

There are two parcels of land equaling 147.48 acres for the Gun Lake Band of Pottawatomi Indians and they are described as follows:

Parcel 1 is located in the Township of Wayland, County of Allegan in the State of Michigan, and is described as follows:

That part of the Northwest ¼ of Section 19, Township 3 North, Range 11 West, Wayland Township, Allegan County Michigan, described as: Beginning at a point on the East-West ¼ line of said Section which is North 86 degrees, 57 minutes, 24 seconds East, 481.98 feet from the West line of said Section, said point being on the Easterly line of Highway US-131 on ramp; thence North 17 degrees, 29 minutes, 59 seconds West, 862.94 feet along said Easterly line; thence North 02 degrees, 23 minutes, 15 seconds West, 1806.10 feet along the Easterly line of Highway US-131, Easterly said line being 125 feet Easterly of, measured at right angles to, and parallel with the survey line of said Highway US-131; thence North 87 degrees, 07 minutes, 54 seconds East, 2.470.95 feet along the North line of said Section; thence South 03 degrees, 27 minutes, 58 seconds East, 1,448.14 feet along the Westerly right-of-way line of the Conrail Railroad (being 50.00 feet Westerly of, measured at right angle to, and parallel with the North-South ¼ line of said Section) to a point which is North 03 degrees, 27 minutes, 58 seconds West, 1,186,00 feet from the East-West ¼ line of said Section; thence South 86 degrees, 57 minutes, 24 seconds East, 430.00 feet; thence South 86 degrees, 57 minutes, 24 seconds West, 194.00; thence South 03 degrees, 27 minutes, 58 seconds East, 431.00 feet; thence North 86 degrees, 57 minutes, 24 seconds East, 240.00 feet; thence South 03 degrees, 27 minutes, 58 seconds East; 325.00 feet; thence South 86 degrees, 57 minutes, 24 seconds West, 1415.62 feet along the East-West ¼ lines of said Section to the point of beginning.

P.P. #03-24-019-026-30

Parcel 2 is located in the Township of Wayland, County of Allegan, in the State of Michigan and is described as follows:

That part of the Northwest ¼ of Section 19, Township 3 North, Range 11 West, Wayland Township, Allegan County, Michigan, described as: Commencing at the West ¼ corner of said Section; thence North 86 degrees, 57 minutes, 24 seconds East, 1,897.00 feet along the East-West ¼ line to a point which is South 86 degrees, 57 minutes, 24 seconds West, 930.00 feet from the center of Section, said point also being the point of beginning of this description; thence continuing North 86 degrees, 57 minutes, 24 seconds East, 682.00 feet along said ¼ line; thence North 03 degrees, 27 minutes, 58 seconds West, 330.00 feet parallel with the North-South ¼ line; thence North 86 degrees, 57 minutes, 24 seconds East, 198.00 feet; thence North 03 degrees, 27 minutes, 58 seconds West 856.00 feet along the Westerly right of way line of the Conrail Railroad (being 50.00 feet Westerly of, measured at right angles to, and parallel with, the North-South ¼ line of said Section); thence South 86 degrees, 57 minutes, 24 seconds West, 926.00 feet; thence South 03 degrees, 27 minutes, 58 seconds East, 430 feet, thence South 86 degrees, 57 minutes, 24 seconds West, 194.00 feet; thence South 03 degrees, 27 minutes, 58 seconds East, 431.00 feet; thence North 86 degrees, 57 minutes, 24 seconds East, 240.00 feet; thence South 03 degrees, 27 minutes, 58 seconds East, 325.00 feet to the point of beginning.

Parcel Identification No(s). 03-24-019-026-20

Commonly Known As: 1123 129th Avenue, Bradley, Michigan.

Dated: May 2, 2005.
Michael D. Olsen,
Acting Principal Deputy Assistant Secretary—Indian Affairs.

[FR Doc. 05-9605 Filed 5-12-05; 8:45 am]

BILLING CODE 4310-4N-P